DEPARTMENT OF ENERGY

National Energy Technology Laboratory Notice of Availability of a Financial Assistance Announcement

AGENCY: National Energy Technology Laboratory, Department of Energy (DOE).

ACTION: Notice of availability of a funding opportunity announcement.

SUMMARY: Notice is hereby given of the intent to issue Funding Opportunity Announcement No. DE-PS26-04NT42061 entitled “Clean Coal Power Initiative.” A draft funding opportunity announcement, as a precursor to potentially awarding multiple financial assistance cooperative agreements, is now being developed. Following release of the draft funding opportunity announcement, expected in November 2003, a comment and response period with industry and other potential partners will be conducted prior to final issuance of the funding opportunity announcement. Final issuance of the funding opportunity announcement is anticipated on or about January 16, 2004, with selections expected early in fiscal year 2005. DOE anticipates availability of $300-$400 million to fund projects selected under this announcement, and industry must match (or exceed) the government cost share for every project. DOE anticipates making multiple awards under this funding opportunity announcement.

DATES: The draft announcement will be available on the “Industry Interactive Procurement System” (IIPS) Web page located at http://e-center.doe.gov on or about November 26, 2003. Applicants can obtain access to the announcement from the address above or through DOE/NETL's Web site at http://www.netl.doe.gov/business.

ADDRESSES: Questions and comments regarding the content of the announcement should be submitted through the “Submit Question” feature of IIPS at http://e-center.doe.gov. Locate the announcement on IIPS and then click on the “Submit Question” button at the top. Enter required information. DOE will try to respond to a question within 3 days, unless a similar question and answer have already been posted on the website. You will receive an electronic notification that your question has been answered.

Responses to questions may be viewed through the “View Questions” feature. If no questions have been answered, a statement to that effect will appear. You should periodically check “View Questions” for new questions and answers.

Questions regarding how to submit questions or view responses can be e-mailed to the IIPS HELP Desk at helpdesk@pr.doe.gov or by calling 1 (800) 683-0751.

FOR FURTHER INFORMATION CONTACT: Jo Ann C. Zysk, MS 921-107, U.S. Department of Energy, National Energy Technology Laboratory, PO Box 10940, E-mail Address: zysk@netl.doe.gov, Telephone Number: (412) 386-6600.

SUPPLEMENTARY INFORMATION: The Clean Coal Power Initiative (CCPI) is a cost-shared partnership between the government and industry to demonstrate advanced coal-based electric power generation technologies. The goal is to accelerate readiness for commercial deployment of advanced technologies to ensure that the United States has clean, reliable, and affordable electricity based on coal, which is fundamental to a strong U.S. economy and to domestic energy security. This CCPI announcement is open to any coal-based technology advancement that results in efficiency, environmental, or economic improvements potentially capable of achieving coal technology performance levels specified in the Coal Power Program Roadmap (http://www.netl.doe.gov/publications/proceedings/03/CCPI/presentation_markel.pdf.) The announcement is open to technologies capable of producing any combination of heat, fuels, chemicals, or other useful byproducts in conjunction with electricity generation. Prospective projects must ensure that coal is used for at least 75% of the fuel energy input to the process and that electricity is at least 50% of the energy-equivalent output from the technology demonstration. Additionally, prospective projects must show the potential for rapid market penetration upon successful demonstration of the technology or concept.

The advanced technologies to be demonstrated under this program will be vital to the role that coal will play on the world power production scene. Production of low-cost electricity and power using coal while maintaining a clean environment has the potential to raise the standard of living of not only the citizens of the United States, but of the world as a whole.

Once released, the funding opportunity announcement will be available for downloading from the IIPS Internet page. At this Internet site you will also be able to register with IIPS, enabling you to submit an application. If you need technical assistance in registering or for any other IIPS function, call the IIPS Help Desk at (800) 683-0751 or e-mail the Help Desk personnel at IIPS_HelpDesk@e-center.doe.gov. The announcement will only be made available in IIPS, no hard (paper) copies of the announcement and related documents will be made available. Telephone requests, written requests, e-mail requests, or facsimile requests for a copy of the draft funding opportunity announcement package will not be accepted and/or honored. The draft announcement will be open for public comments on November 26, 2003 and will be closed to public comments on December 26, 2003.

The final funding opportunity announcement will be made available on or about January 16, 2004. Applications must be prepared and submitted in accordance with the instructions and forms contained in the announcement. The final announcement document will allow for requests for explanation and/or interpretation.

Issued in Pittsburgh, Pennsylvania, on November 21, 2003.
Dale A. Siciliano,
Director, Acquisition and Assistance Division.

[FR Doc. 03-30610 Filed 12-9-03; 8:45 am]

BILLING CODE 6450-01-P